DEPARTMENT OF COMMERCE

International Trade Administration

Fermi Research Alliance, LLC., et al.; Notice of Decision on Application for Duty-Free Entry of Scientific Instruments

This is a decision pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Ave. NW, Washington, DC

Docket Number: 18-006. Applicant: Fermi Research Alliance, LLC., Batavia, IL 60510. Instrument: Short Baseline Near Detector (SBND) Liquid Argon Time Projection Chamber (LArTPC). Manufacturer: The Scientific Facilities Research Council (STFC), United Kingdom. Intended Use: See notice at 83 FR 62838, December 6, 2018. Comments: None received. Decision: Approved. We know of no instruments of equivalent scientific value to the foreign instruments described below, for such purposes as this is intended to be used, that was being manufactured in the United States at the time of order. Reasons: The instrument will be used for a basic scientific research project that will study neurtrinos, a type of elementary particle. There are three known types of neutrinos in the universe, although there could be more that have not yet been observed. The phenomena to be studied are the number of neutrino types and interaction cross-sections for the currently known neutrino types. Two detectors are required to perform the neutrino oscillation studies: The Short Baseline Near Detector (SBND) is one of these detectors. The primary objective of the SBN program is to look for evidence of neutrino oscillations, over distances of 1 kilometer or less, and if found to measure the oscillation parameters. The SBND TPC is a complex and unique instrument. Justification for Duty-Free Entry: There are no instruments of the same general category manufactured in the United States.

Docket Number: 18-008. Applicant: Lawrence Berkeley National Laboratory, Berkeley, CA 94720. Instrument: In Vacuum Insertion Device (aka Undulator). Manufacturer: Hitachi Metals America, LLC, Japan. Intended Use: See notice at 83 FR 62838, December 6, 2018. Comments: None received. Decision: Approved. We know of no instruments of equivalent scientific value to the foreign instruments described below, for such purposes as this is intended to be used, that was being manufactured in the United States at the time of order. Reasons: The instrument will be installed in Sector 2.0 of the Advanced Light Source (ALS) facility at Lawrence Berkeley Laboratory, for use as a high brightness beamline source for the sector. Sector 2.0 of the ALS is dedicated to the study and analysis of protein crystallography. The objectives pursued are to determine the atomic-resolution, three-dimensional structures of proteins and nucleic acids-the building blocks of life-as well as complexes of these molecules, the interactions of which give rise to biological processes. Justification for Duty-Free Entry: There are no instruments of the same general category manufactured in the United States.

Dated: February 22, 2019.
Gregory W. Campbell,
Director, Subsidies Enforcement, Enforcement and Compliance.

[FR Doc. 2019-03423 Filed 2-26-19; 8:45 am]

BILLING CODE 3510-DS-P